FEDERAL COMMUNICATIONS COMMISSION

[Report No. 2621]

Petitions for Reconsideration of Action in Rulemaking Proceeding

August 14, 2003.

Petitions for Reconsideration have been filed in the Commission's Rulemaking proceeding listed in this Public Notice and published pursuant to 47 CFR Section 1.429(e). The full text of this document is available for viewing and copying in Room CY-A257, 445 12th Street, SW., Washington, DC or may be purchased from the Commission's copy contractor, Qualex International (202) 863-2893. Oppositions to these petitions must be filed by September 4, 2003. See Section 1.4(b)(1) of the Commission's rules (47 CFR 1.4(b)(1)). Replies to an opposition must be filed within 10 days after the time for filing oppositions have expired.

Subject: In the Matter of the Commission's Rules Regarding Ultra-Wideband Transmission Systems (ET Docket No. 98-153).

Number of Petitions Filed: 2.

Marlene H. Dortch,
Secretary.

[FR Doc. 03-21370 Filed 8-19-03; 8:45 am]

BILLING CODE 6712-01-M